NATIONAL AERONAUTICS AND SPACE ADMINSTRATION

[Notice (05-029)]

NASA Universe Exploration Strategic Roadmap Committee; Meeting

AGENCY: National Aeronautics and Space Administration (NASA).

ACTION: Notice of meeting.

SUMMARY: In accordance with the Federal Advisory Committee Act, Public Law 92-463, as amended, the National Aeronautics and Space Administration announces a meeting of the NASA Universe Exploration Strategic Roadmap Committee.

DATES: Tuesday, March 15, 2005, 8:30 a.m. to 5 p.m., Wednesday, March 16, 2005, 8:30 a.m. to 5 p.m. eastern standard time.

ADDRESSES: Greenbelt Marriott Hotel, 6400 Ivy Lane, Greenbelt, Maryland 20770.

FOR FURTHER INFORMATION CONTACT: Dr. Michael Salamon, 202-358-0441.

SUPPLEMENTARY INFORMATION: The meeting will be open to the public up to the seating capacity of the meeting room. Attendees will be requested to sign a register.

The agenda for the meeting is as follows:

—Discussion of Capability Roadmaps.

—Presentation of Vision Missions, Origins Probes.

—Discussion of solicited white papers.

—Report by Task Force on Cosmic Microwave Background Research.

—Report by Dark Energy Task Force.

—Identification of joint interests with other Strategic Roadmaps.

It is imperative that the meeting be held on these dates to accommodate the scheduling priorities of the key participants.

Dated: February 14, 2005.
P. Diane Rausch,
Advisory Committee Management Officer, National Aeronautics and Space Administration.

[FR Doc. 05-3110 Filed 2-17-05; 8:45 am]

BILLING CODE 7510-13-P